DEPARTMENT OF THE INTERIOR

Bureau of Land Management

[PO #4820000251]

Notice of Availability of the Record of Decision and Approved Resource Management Plan for the Rio Puerco Field Office in Albuquerque, NM

AGENCY: Bureau of Land Management, Interior.

ACTION: Notice of availability.

SUMMARY: The Bureau of Land Management (BLM) announces the availability of the Record of Decision (ROD) for the Approved Resource Management Plan (RMP) for the Rio Puerco Field Office located in central and northwestern New Mexico. The BLM Director signed the ROD on December 23, 2024, which constitutes the decision of the BLM and makes the Approved RMP effective immediately.

DATES: The BLM Director signed the ROD on December 23, 2024.

ADDRESSES: The ROD/Approved RMP is available online at https://eplanning.blm.gov/eplanning-ui/project/64954/510. Printed copies of the ROD/Approved RMP are available for public inspection at Rio Puerco Field Office, 100 Sun Avenue, Suite 330, Albuquerque, NM 87109, or can be provided upon request by contacting BLM Planning Coordinator Matt Caire at mcaire@blm.gov.

A copy of the Protest Resolution Report is available at: https://www.blm.gov/programs/planning-and-nepa/public-participation/protest-resolution-reports.

FOR FURTHER INFORMATION CONTACT: BLM Planning Coordinator Matt Caire, telephone: 505-761-8918; address: 100 Sun Avenue, Suite 330, Albuquerque, New Mexico, 87109; email: mcaire@blm.gov. Individuals in the United States who are deaf, deafblind, hard of hearing, or have a speech disability may dial 711 (TTY, TDD, or TeleBraille) to access telecommunications relay services for contacting Mr. Caire. Individuals outside the United States should use the relay services offered within their country to make international calls to the point-of-contact in the United States.

SUPPLEMENTARY INFORMATION: This Approved RMP/ROD replaces the current Rio Puerco RMP (approved in 1986 and amended in 1992). The Rio Puerco Field Office administers approximately 731,600 acres of surface estate and approximately 3.6 million acres of subsurface mineral estate known as the decision area. These lands are within the Rio Puerco planning area and encompass Bernalillo, Cibola, McKinley, Sandoval, Torrance, and Valencia counties in central and northwestern New Mexico. The Rio Puerco planning area includes approximately 9.5 million acres, and within this area there are a mix of lands that are unaffected by this plan, such as national forest, national monument, Tribal land, State land, and private land. The planning area also includes valuable mineral resources and the largest population center in the State of New Mexico.

The Approved RMP balances resource use and conservation, and addresses land-tenure adjustments, land-use authorizations, recreation, areas with special designations, lands with wilderness characteristics, livestock grazing, transportation access, renewable energy, visual resources, wildland/urban interface, and mineral resources.

The Approved RMP was deveopled through a collaborative planning effort and describes the management actions that will be applied to meet desired resource conditions. The Proposed RMP was carried forward into the Approved RMP with minor modifications. Notably, this includes acknowledgement of the ancestral lands of all affiliated Tribal Nations within the planning area and emphasis on management direction for cultural consultation and continual coordination with Tribal Nations.

The BLM provided the Proposed RMP/Final Environmental Impact Statement (EIS) on August 9, 2024, for a 30-day protest period and received 24 protest letters. The BLM resolved all protests. Responses to protest issues are compiled and documented in a Protest Resolution Report (see ADDRESSES). The BLM entered into a protest resolution agreement with the Pueblo of San Felipe to address protest comments raised during the protest period. Changes made to the Approved RMP as a result of protest resolution are summarized in the Approved RMP ROD.

The BLM provided the Proposed RMP/Final EIS to the Governor of New Mexico for a 60-day Governor's consistency review. No inconsistencies with State plans, policies, or programs were identified during the Governor's consistency review of the RMP.

(Authority: 40 CFR 1506.6; 43 CFR 1610.5-1)

Melanie G. Barnes,
New Mexico State Director.

[FR Doc. 2024-31574 Filed 1-2-25; 8:45 am]

BILLING CODE 4331-23-P